DEPARTMENT OF TRANSPORTATION

Federal Aviation Administration

Agency Information Collection Activities: Requests for Comments; Clearance of Renewed Approval of Information Collection: Hazardous Materials Training Requirements

AGENCY: Federal Aviation Administration (FAA), DOT.

ACTION: Notice and request for comments.

SUMMARY: In accordance with the Paperwork Reduction Act of 1995, FAA invites public comments about our intention to request the Office of Management and Budget (OMB) approval of a new information collection. This collection involves FAA certification process requirements for operators and repair stations who are required to submit documentation related to hazardous materials training programs.

DATES: Written comments should be submitted by January 2, 2019.

ADDRESSES: Send comments to the FAA at the following address: Barbara Hall, Federal Aviation Administration, ASP-110, 10101 Hillwood Parkway, Fort Worth, TX 76177

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0705.

Title: Hazardous Materials Training Requirements.

Form Numbers: There are no FAA forms associated with this collection of information.

Type of Review: Renewal of an information collection.

Background: The FAA, as prescribed in 14 CFR parts 121 and 135, requires certificate holders to submit manuals and hazardous materials (hazmat) training programs, or revisions to an approved hazmat training program to obtain initial and final approval as part of the FAA certification process. Original certification is completed in accordance with 14 CFR part 119. Continuing certification is completed in accordance with 14 CFR parts 121 and 135. The FAA uses the approval process to determine compliance of the hazmat training programs with the applicable regulations, national policies and safe operating practices. The FAA must ensure that the documents adequately establish safe operating procedures. Additionally, 14 CFR part 145 requires certain repair stations to provide documentation showing that persons handling hazmat for transportation have been trained following DOT guidelines.

Respondents: Part 121, 135, and 145 certificate holders. Approximately 2,800.

Frequency: Information is collected on occasion. Part 121 and part 135 operators are required to submit documentation of their hazardous materials training to receive original certification. If the operator decides to make a change to their training program, they must provide the updated manual. Part 145 repair station is required to submit a statement to the FAA certifying that all of their hazmat employees are trained under the Hazardous Materials Regulations prior to receiving their initial part 145 certificate.

Estimated Average Burden per Response: The amount of time per response is expected to vary. For example, new responses take significantly longer than revisions. Furthermore, operators with will-carry hazardous materials operations are anticipated to have longer responses than will-not carry hazardous materials operations. Part 145 repair stations will require less time to develop a certification statements than operators require to develop a manual. Additionally certificate holders vary in the type and size of the operations. Certificate holders are not anticipated to spend the same amount of time each year. Therefore, based on FAA's subject matter expertise we continue to expect reporting to take an average .6 hours, and recordkeeping to take .7 hours for a total of 1.3 hours per response. These are an annualized average which account for the wide variability in the type, complexity and size of operation. Additionally, the type of update can vary. Operators may make minor revisions to the manual, or they may choose to make more significant changes reflecting a larger change in their operations.

Estimated Total Annual Burden: 7,300 hours.

Issued in Fort Worth, TX on October 11, 2018.
Barbara L. Hall,
FAA Information Collection Clearance Officer, Performance, Policy, and Records Management Branch, ASP-110.

[FR Doc. 2018-24043 Filed 11-1-18; 8:45 am]

BILLING CODE 4910-13-P